DEPARTMENT OF TRANSPORTATION

Pipeline and Hazardous Materials Safety Administration

[Docket ID PHMSA-2008-0161]

Pipeline Safety: Workshop on Cased Pipeline Integrity Assessments

AGENCY: Pipeline and Hazardous Materials Safety Administration (PHMSA), DOT.

ACTION: Notice of workshop.

SUMMARY: PHMSA is holding a Workshop on Cased Pipeline Integrity Assessments and in coordination with a planning group representing the National Association of Pipeline Safety Regulators, American Gas Association, Interstate Natural Gas Association of America, American Public Gas Association, American Petroleum Institute, and NACE International, the workshop focus will be for pipeline operators, trade associations, and others to address concerns with successfully using External Corrosion Direct Assessment integrity evaluation methods and use of other technologies to assess casings in High Consequence Areas.

DATES: The workshop will be held July 15-16, 2008.

ADDRESSES: The workshop will be held at the Sheraton Gateway Suites Chicago O'Hare, 6501 North Manheim Road, Rosemont, IL 60018. Hotel reservations under the U.S. Department of Transportation room block can be made at (847) 699-6300 by June 30. A daily rate of $168.00 is available. The meeting room(s) will be posted at the hotel on the days of the workshop.

FOR FURTHER INFORMATION CONTACT: Max Kieba at (202) 493-0595, or by e-mail at max.kieba@dot.gov.

SUPPLEMENTARY INFORMATION: Registration: Members of the public may attend this free workshop. To help with estimating attendance and planning for the breakout session, all attendees are encouraged to register for the workshop at http://primis.phmsa.dot.gov/meetings/Mtg54.mtg. Hotel reservations must be made by contacting the hotel directly.

Comments should reference Docket ID PHMSA-08-0161. Comments may be submitted in the following ways:

• E-Gov Web Site: http://www.regulations.gov. This site allows the public to enter comments on any Federal Register notice issued by any agency. Follow the instructions for submitting comments.

• Fax: 1-202-493-2251.

• Mail: Docket Management System, U.S. Department of Transportation, 1200 New Jersey Avenue, SE., Room W12-140, Washington, DC 20590.

• Hand Delivery: DOT Docket Management System, Room W12-140, on the ground floor of the West Building, 1200 New Jersey Avenue, SE., Washington, DC between 9 a.m. and 5 p.m., Monday through Friday, except Federal holidays.

Instructions: Identify the Docket ID at the beginning of your comments. If you submit your comments by mail, submit two copies. If you wish to receive confirmation that PHMSA has received your comments, include a self-addressed stamped postcard. Internet users may submit comments at http://www.regulations.gov. Note: Comments will be posted without changes or edits to http://www.regulations.gov including any personal information provided. Please see the Privacy Act heading in the Regulatory Analyses and Notices section of the SUPPLEMENTARY INFORMATION for additional information.

Privacy Act Statement: Anyone may search the electronic form of all comments received for any of our dockets. You may review DOT's complete Privacy Act Statement in the Federal Register published April 11, 2000 (65 FR 19477).

Information on Services for Individuals with Disabilities: For information on facilities or services for individuals with disabilities, or to request special assistance at the meeting, please contact Max Kieba by July 1, 2008.

Web Casting: The workshop will be Web cast except for the breakout sessions on the second day. Information on the Web cast link, including estimates of times when the Web cast will be on, will be posted on the meeting Web site above. Presentations from the workshop and recommendations from the breakout sessions will be uploaded to the meeting Web site within 30 days after the workshop.

Additional Information on Cased Crossings: The meeting Web site will have a list of technical documents participants are encouraged to review prior to the workshop, along with a list of questions and issues we will address during the workshop.

Workshop Agenda

The first day of the workshop will include:

(1) A background of the regulatory integrity requirements,

(2) Technical updates by both operators and service providers,

(3) Overview of research of new technology, inspection issues and the current integrity inspection positions,

(4) Status of the stakeholders represented followed by panels presenting and discussing current NACE standards,

(5) Approaches and assessment methodologies being used for cased pipeline segments, and

(6) Research completed or underway.

The second day of the workshop will include:

(1) Breakout sessions on the above topics, followed by the group convening to talk about technical assessment successes,

(2) New technology,

(3) New integrity assessment approaches,

(4) Status update of assessments, and

(5) Long term issues.

The second day will also serve as a brainstorm session for identifying discussion topics/issues that should be incorporated into a future public workshop on the broader issue of how pipeline industry can work collaboratively with others to reduce the need for casings on newly installed pipe.

The goal at the end of the workshop will be to develop a list of potential solutions that can address the issues through usage of new technology, understanding of and/or changes to the regulations, updating of standards, operating practices and/or research. PHMSA will then analyze the list of potential solutions with stakeholders for consideration on which solutions can best address the issues.

Issued in Washington, DC, on June 18, 2008.
William H. Gute,
Deputy Associate Administrator for Pipeline Safety.

[FR Doc. E8-14119 Filed 6-20-08; 8:45 am]

BILLING CODE 4910-60-P